DEPARTMENT OF HEALTH AND HUMAN SERVICES

National Institutes of Health

National Cancer Institute; Notice of Closed Meetings

Pursuant to section 1009 of the Federal Advisory Committee Act, as amended, notice is hereby given of the following meetings.

The meetings will be closed to the public in accordance with the provisions set forth in sections 552b(c)(4) and 552b(c)(6), title 5 U.S.C., as amended. The grant applications and the discussions could disclose confidential trade secrets or commercial property such as patentable material, and personal information concerning individuals associated with the grant applications, the disclosure of which would constitute a clearly unwarranted invasion of personal privacy.

Name of Committee: National Cancer Institute Special Emphasis Panel; Cancer Immunoprevention Network Resource Coordinating Center.

Date: April 11, 2025.

Time: 10:00 a.m. to 1:00 p.m.

Agenda: To review and evaluate grant applications.

Address: National Cancer Institute at Shady Grove, 9609 Medical Center Drive, Room 7W602, Rockville, Maryland 20850.

Meeting Format: Virtual Meeting.

Contact Person: Delia Tang, M.D., Scientific Review Officer, Resources and Training Review Branch, Division of Extramural Activities, National Cancer Institute, NIH, 9609 Medical Center Drive, Room 7W602, Rockville, Maryland 20850, 240-276-6456, tangd@mail.nih.gov.

Name of Committee: National Cancer Institute Special Emphasis Panel; AIDS Malignancy Consortium-UM1.

Date: April 16, 2025.

Time: 10:00 a.m. to 12:00 p.m.

Agenda: To review and evaluate grant applications.

Address: National Cancer Institute at Shady Grove, 9609 Medical Center Drive, Room 7W126, Rockville, Maryland 20850.

Meeting Format: Virtual Meeting.

Contact Person: Mukesh Kumar, Ph.D., Scientific Review Officer, Research Program Review Branch, Division of Extramural Activities, National Cancer Institute, NIH, 9609 Medical Center Drive, Room 7W126, Rockville, Maryland 20850, 240-276-6611, mukesh.kumar3@nih.gov.

Name of Committee: National Cancer Institute Special Emphasis Panel; R13 Conference Grant Review.

Date: April 21, 2025.

Time: 10:00 a.m. to 5:00 p.m.

Agenda: To review and evaluate grant applications.

Address: National Cancer Institute at Shady Grove, 9609 Medical Center Drive, Room 7W266, Rockville, Maryland 20850.

Meeting Format: Virtual Meeting.

Contact Person: Howard E. Boudreau, Ph.D., Scientific Review Officer, Program Coordination and Referral Branch, Division of Extramural Activities, National Cancer Institute, NIH, 9609 Medical Center Drive, Room 7W266, Rockville, Maryland 20850, 240-507-9192, boudreauh@mail.nih.gov.

Name of Committee: National Cancer Institute Special Emphasis Panel; NCI Pathway to Independence Award for Outstanding Early-Stage Postdoctoral Researchers (K99/R00) and Mentored Research Scientist Development Award (K01).

Date: May 1-2, 2025.

Time: 10:00 a.m. to 5:00 p.m.

Agenda: To review and evaluate grant applications.

Address: National Cancer Institute at Shady Grove, 9609 Medical Center Drive, Room 7W238, Rockville, Maryland 20850.

Meeting Format: Virtual Meeting.

Contact Person: Byeong-Chel Lee, Ph.D., Scientific Review Officer, Resources and Training Review Branch, Division of Extramural Activities, National Cancer Institute, NIH, 9609 Medical Center Drive, Room 7W238, Rockville, Maryland 20850, 240-276-7755, byeong-chel.lee@nih.gov.

Name of Committee: National Cancer Institute Special Emphasis Panel; Cancer Center Support Grant (P30).

Date: May 1, 2025.

Time: 12:30 p.m. to 2:30 p.m.

Agenda: To review and evaluate grant applications.

Address: National Cancer Institute at Shady Grove, 9609 Medical Center Drive, Room 7W124, Rockville, Maryland 20850.

Meeting Format: Virtual Meeting.

Contact Person: Eun Ah Cho, Ph.D., Scientific Review Officer, Resources and Training Review Branch, Division of Extramural Activities, National Cancer Institute, NIH, 9609 Medical Center Drive, Room 7W124, Rockville, Maryland 20850, 240-276-6342, choe@mail.nih.gov.

Name of Committee: National Cancer Institute Initial Review Group; Cancer Centers Study Section (A).

Date: May 9, 2025.

Time: 10:00 a.m. to 5:00 p.m.

Agenda: To review and evaluate grant applications.

Address: National Cancer Institute Shady Grove, 9609 Medical Center Drive, Room 7W110, Rockville, Maryland 20850.

Meeting Format: Virtual Meeting.

Contact Person: Caterina Bianco, M.D., Ph.D., Chief, Scientific Review Officer, Resources and Training Review Branch, Division of Extramural Activities, National Cancer Institute, NIH, 9609 Medical Center Drive, Room 7W110, Rockville, Maryland 20850, 240-276-6459, biancoc@mail.nih.gov.

Name of Committee: National Cancer Institute Special Emphasis Panel; Healthcare Transitions for Survivors of Childhood and Adolescent Cancers.

Date: May 22, 2025.

Time: 3:00 p.m. to 5:30 p.m.

Agenda: To review and evaluate grant applications.

Address: National Cancer Institute at Shady Grove, 9609 Medical Center Drive, Room 7W124, Rockville, Maryland 20850.

Meeting Format: Virtual Meeting.

Contact Person: Eun Ah Cho, Ph.D., Scientific Review Officer, Resources and Training Review Branch, Division of Extramural Activities, National Cancer Institute, NIH, 9609 Medical Center Drive, Room 7W124, Rockville, Maryland 20850, 240-276-6342, choe@mail.nih.gov.

Name of Committee: National Cancer Institute Special Emphasis Panel; NCI SPORE (P50) Review SEP-I.

Date: June 17-18, 2025.

Time: 9:30 a.m. to 6:00 p.m.

Agenda: To review and evaluate grant applications.

Address: National Cancer Institute Shady Grove, 9609 Medical Center Drive, Room 7W244, Rockville, Maryland 20850.

Meeting Format: Virtual Meeting.

Contact Person: John Paul Cairns, Ph.D., Scientific Review Officer, Research Programs Review Branch, Division of Extramural Activities, National Cancer Institute, NIH, 9609 Medical Center Drive, Room 7W244, Rockville, Maryland 20850, 240-276-5415, paul.cairns@nih.gov.

Name of Committee: National Cancer Institute Special Emphasis Panel; NCI Program Project (P01) Review SEP-A.

Date: June 26-27, 2025.

Time: 9:00 a.m. to 6:00 p.m.

Agenda: To review and evaluate grant applications.

Address: National Cancer Institute at Shady Grove, 9609 Medical Center Drive, Room 7W120, Rockville, Maryland 20850.

Meeting Format: Virtual Meeting.

Contact Person: Majed M. Hamawy, Ph.D., Scientific Review Officer, Research Programs Review Branch, Division of Extramural Activities, National Cancer Institute, NIH, 9609 Medical Center Drive, Room 7W120, Rockville, Maryland 20850, 240-276-6457, mh101v@nih.gov.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: March 13, 2025.
Melanie J. Pantoja,
Program Analyst, Office of Federal Advisory Committee Policy.

[FR Doc. 2025-04501 Filed 3-18-25; 8:45 am]

BILLING CODE 4140-01-P